DEPARTMENT OF COMMERCE

National Oceanic and Atmospheric Administration

[Docket No. 020325069-2311-02]

Request for Proposals for FY 2003—NOAA Educational Partnership Program With Minority Serving Institutions: Environmental Entrepreneurship Program

AGENCY: Office of Oceanic and Atmospheric Research (OAR), National Oceanic and Atmospheric Administration (NOAA), Commerce.

ACTION: Notice of request for preliminary proposals and subsequent full proposals.

SUMMARY: The Office of Oceanic and Atmospheric Research (OAR) of the National Oceanic and Atmospheric Administration (NOAA), United States Department of Commerce is soliciting preliminary proposals and subsequent full proposals for the NOAA Educational Partnership Program with Minority Serving Institutions (EPP/MSI): Environmental Entrepreneurship Program: For the purposes of this program, Environmental Entrepreneurship is defined as an education and training mechanism to engage students in applyng the necessary skills, tools, methods and technologies is sciences directly related to NOAA's mission. This includes fostering educational opportunities in coastal, oceanic, atmospheric, environmental, and remote sensing sciences coupled with training in economics, marketing, product development, and services to create jobs, businesses and economic development opportunities. The Environmental Entrpreneurship Program promotes partnerships with MSIs, NOAA and the public-private sector. The goal of the program is to strengthen the capacity of Minority Serving Institutions to foster student careers, entrepreneurship opportunities and advanced academic study in the sciences directly related to NOAA.

In Fiscal Year 2003, NOAA expects to make available a total of $3,300,000 (subject to congressional appropriations) to support the EPP/MSI Environmental Entrepreneurship Program. The program will provide funds, on a competitive basis, to support programs and projects at eligible Minority Serving Institutions, for a minimum of one year and a maximum of three years duration, in the following two categories:

(1) Program Development and Enhancement—approximately six grants or cooperative agreement awards, each up to a total of $250,000 for a period of one, two or three years to support the capacity of MSIs in the development and enhancement of entrepreneurship training and educational opportunities for students directly related to the NOAA sciences.

(2) Environmental Demonstration Projects—approximately six grants or cooperative agreement awards, each up to a total of $300,000 for a period of one, two or three years to support MSI students and faculty in hands-on demonstration projects focused on applying environmentally sound methods and technologies to address real world environmental issues in local communities directly related to the NOAA sciences.

DATES: Preliminary Proposals must be received by 5 p.m. (Eastern Standard Time) on February 17, 2003. After evaluation by the National Oceanic and Atmospheric Administration, acceptable proposals will be recommended to prepare full proposals, which must be received by 5 p.m. (Eastern Daylight Savings Time) on April 17, 2003. (See Section VI. Instructions for Application: Timetable). Facsimile transmissions and electronic mail submission of proposals will not be accepted.

ADDRESSES: Preliminary proposals and full proposals must be submitted to:

Jewel G. Linzey, Program Manager, Environmental Entrepreneurship Program, National Oceanic and Atmospheric Administration, Educational Partnership Program with Minority Serving Institutions, Room 10725, SSMC III, 1315 East-West Highway, Silver Spring, MD 20910.

FOR FURTHER INFORMATION CONTACT: Jewel G. Linzey, NOAA. EPP/MSI: Environmental Entrepreneurship Program, National Oceanic and Atmospheric Administration, Room 10725, SSMC III, 1315 East-West Highway, Silver Spring, MD 20910. Tel. (301) 713-9437 x 118; e-mail: jewel.griffin-linzey@noaa.gov.

SUPPLEMENTARY INFORMATION:

I. Program Authority:

Authority: 15 U.S.C. 1540. Catalog of Federal Assistance Number: 11.481—Educational Partnership Program with Minority Serving Institutions:

II. Program Description

Background

NOAA provides science, technology and services to describe and predict changes in the Earth's environment, and conserve and manage wisely the Nation's coastal and marine resources to ensure sustainable economic opportunities. The agency has made a commitment to expand and strengthen its partnerships with Minority Serving Institutions that will serve as a means to meet its principal goals of environmental stewardship, assessment, and prediction. In accordance with the policy of the U.S. Department of Commerce and NOAA to foster environment education and economic sustainability and the agency's mission, the purposes of the NOAA EPP/MSI Environmental Entrepreneurship Program are to support:

(1) Educational and Training Opportunities. To prepare students with the necessary compliment of educational opportunities, business acumen and technical skills that will enable them to pursue careers, entrepreneurship opportunities and advanced academic study in sciences directly related to NOAA's mission.

(2) Capacity Building. To develop or enhance the capacity of academic programs at MSIs, directly related to the NOAA sciences, to ensure they are effective pipelines through which students and faculty can gain the necessary experience as a baseline for both educational and training opportunities.

(3) Partnerships. To facilitate or strengthen MSI partnerships between NOAA programs, laboratories and facilities, community colleges and universities, industry, governments (state, local, commonwealth, territorial and tribal), and organizations (public, nonprofit, or private) that foster cooperative educational and training opportunities for students and facilities.

(4) Community Economic Development. To support MSIs and partners in preparing students with the necessary knowledge, skills, tools and technologies that may be applied outside the classroom to create minority business enterprise and foster environmentally sustainable and economically viable local communities.

Rationale

The recruitment of minorities, particularly underrepresented minorities, in the fields of science and engineering, lags behind national expectations. Statistics from the National Science Foundation (NSF) show that of the 17, 347 doctoral degrees granted in NOAA-related sciences in 2000 (the most recent data available as of July 2002), 1.9 percent were granted of African Americans, 2.3 percent were granted to Hispanics, and 0.3 percent were granted to American Indians and Alaska Natives. NOAA statistics also indicate that 3.8 percent of scientist and engineers employed by NOAA are African Americans, 1.8 percent are Hispanics, and .25 percent are American Indians and Alaska Natives. In contrast, these groups make up 26 percent of the U.S. population (African Americans, 12.3 percent, Hispanics, 12.5 percent, and American Indians and Alaska Natives, 1.2 percent). The quality and nature of academic experiences at each point of the educational pipeline are crucial to bringing more minorities into earth and environmental science and engineering fields. Bachelors, Masters and Doctoral degrees are the underpinnings of environmental science career achievement and employment.

NOAA EPP/MSI Environmental Entrepreneurship Program

The goal of the NOAA EPP/MSI Environmental Entrepreneurship Program is to strengthen the capacity of Minority Serving Institutions to foster student careers, entrepreneurship opportunities, and advanced academic study in sciences directly related to NOAA. Proposals must be firmly grounded in “environmental fields” directly related to NOAA's mission. The term “environmental fields” is defined as those environmental, natural sciences (i.e., biology, earth sciences), physical and social sciences (i.e., economics, anthropology, geography, and history), engineering, professional and technical fields that are directly related to NOAA's mission which is to “describe and predict changes in the Earth's environment, and conserve and manage wisely the Nation's coastal and marine resources.” (See http://www.noaa.gov/)

Proposals should identify mechanisms to be employed that involve an interdisciplinary approach to enhancing MSIs capacity to foster student opportunities, interest in, and pursuit of careers, entrepreneurship and advanced study in the NOAA sciences.

Proposals will be accepted that address one of the following categories:

(i) Program Development and Enhancement—approximately six grants or cooperative agreement awards, each up to a total of $250,000 for a period of one, two or three years to support the capacity of MSIs in the development and enhancement of entrepreneurship training and educational opportunities for students directly related to the NOAA sciences. Developing and enhancing outreach, education, applied research and training capabilities at MSIs is intended to expand opportunities for students to develop the technical skills, entrepreneurial training, and experiences needed to pursue careers, entrepreneurship opportunities and advanced academic study in NOAA-related environmental fields. Activities funded under this element should include an interdisciplinary approach to developing or enhancing: coastal, oceanic, atmospheric, environmental and remote sensing science courses coupled with entrepreneurship training through curriculum enhancement in economics, marketing, product development and services, practical learning experiences for students, applied research or hands-on training. These activities a re designed to foster student careers, entrepreneurship opportunities and advanced academic study directly related to NOAA's mission.

(ii) Environmental Demonstration Projects—approximately six grants or cooperative agreement awards, each up to a total of $300,000 for a period of one, two or three years, to support the engagement of MSI students and faculty in hands-on demonstration projects that apply environmentally sound methods and technologies to address real world environmental issues in local communities that directly relate to the NOAA sciences. Field demonstration projects should encourage partnerships that enable students to address challenging environmental issues such as, enhancing and restoring coastal and estuarine habitats, preventing marine pollution, reducing coastal hazards, assessing marine protected areas, protecting coral reefs, reducing the spread of invasive species, restoring fisheries and fisheries habitat, developing and expanding aquaculture, planning community waterfront revitalization, improving the prediction of weather and climate phenomena, or employing remotely sensed data and information systems to support environmental monitoring and prediction. The demonstration projects should involve students in collaborative field projects that will empower them to pursue careers, entrepreneurship opportunities and advanced academic study. Projects should train students with the necessary knowledge, skills, tools and technology that may be applied outside the classroom to create minority business enterprise and promote environmental sustainability and economic viability in their local communities. Projects should engage students in applied research to understand the nature and extent of environmental degradation within communities and to test and monitor methods for preventing, controlling, and reducing the degradation of natural environments.

Partnerships

Strong linkages or collaborations with NOAA programs, laboratories and facilities are required. Innovative approaches to training students are sought that take maximum advantage of the synergies and partnerships with other universities, community colleges, research institutions, industry, government and nongovernmental agencies, and other organizations (public, nonprofit, or private). Partnerships should engage students in applied research projects, internships, entrepreneurial and hands-on training experiences, mentored by academic and industry professionals, that will facilitate the entry of MSI students into careers, advanced study and environmental entrepreneurship directly related to NOAA's mission. There is no requirement for a MSI or partner to provide matching funds. NOAA retains the right to allocate funds differently than indicated above if the number of proposals received is not balanced across these two categories, or the proposal quality does not warrant the stated allocation. In such cases, funds may be shifted between the two funding categories.

Proposals

Preliminary Proposals must not exceed five pages and must clearly articulate how the MSI and partners will foster student careers, entrepreneurship opportunities and advanced academic study directly related to NOAA sciences.

Full Proposals must be submitted by an eligible MSI (see Section III. Eligibility) and must submit a rigorous work plan, a strong rationale, and clearly identified and achievable goals. Proposals must identify strong linkages or collaborations with NOAA programs, laboratories and facilities. Proposals should emphasize innovative approaches to encouraging, preparing, and graduating MSI students for environmental entrepreneurial careers and opportunities. Direct student support must be at least twenty-five percent [25%] of the total budget. Projects must contain multiple-year participation by students and include effective use of role models and mentors from academia and partner organizations. A plan for evaluating the outcome of the project must be included. Proposals must identify the Principal Investigator and Co-Principal Investigator(s) who will be significantly involved in carrying out the proposal. At least one Co-Principal Investigator must be identified who is experienced enough to assume the responsibility of carrying out the proposal in the absence of the Principal Investigator.

III. Eligibility

Minority Serving Institutions eligible to submit proposals include institutions of higher education identified by the Department of Education as:

(i) Historically Black Colleges and Universities,

(ii) Hispanic-Serving Institutions,

(iii) Tribal Colleges and Universities,

(iv) Alaska Native or Native Hawaiian Serving Institutions

on the most recent “2002 United States Department of Education Accredited Post-Secondary Minority Institutions” list: http://www.ed.gov/offices/OCR/minorityinst.html

IV. Evaluation Criteria

The evaluation criteria for proposals submitted under the NOAA EPP/MSI Environmental Entrepreneurship Program are weighted as follows:

(1) Technical and Educational Merit (40 percent): The degree to which the activity will advance or transfer knowledge and understanding of environmental fields, education, or professional fields directly related to NOAA's mission; the qualifications and capability of the MSI (including sufficient time for the Principal Investigator, Co-Principal Investigator and other pertinent individuals and partners) to conduct the project, the ability to involve a significant number of individuals from the MSI's student population successfully in the project (including at least 25% in direct student support), and multi-year participation by students that includes the effective use of role models and mentors from academia and partner organizations; the degree to which the activity explores creative and original concepts; the overall design and organizations of the planned activity; the strength of proposed partnerships between the MSI, NOAA and the public-private sector to help meet the goals of the project (including sufficient travel funds directed for the Principal Investigator to participate in the NOAA Educational Partnership Program annual meeting).

(2) Impact of Proposed Project (60 percent): The contributions the project will make to enhancing the capability of the MSI to bring education, applied research or hands-on training opportunities to its student and faculty populations in the environmental fields directly related to NOAA's mission; the benefit accruing to the institution from participation in the NOAA EPP/MSI: Environmental Entrepreneurship Program; the degree to which the proposed activity develops mechanisms that will broaden and sustain the capacity of MSIs to prepare students for careers, advanced academic study and entrepreneurship opportunities in environmental fields directly related to NOAA's mission; the extent to which the proposed activity will enhance and improve outreach, education, training, and applied research at MSIs; and the adequacy of the plan for evaluating the outcome of the project. For environmental demonstration projects, the degree to which the project is expected to prevent, control, and reduce environmental degradation to communities.

V. Selection Procedures

Preliminary proposals will be reviewed by NOAA. NOAA will conduct a review to assess which preliminary proposals best meet the program goals and objectives and eligibility criteria (stated in Section IV). NOAA will make a determination of the preliminary proposals and recommend which preliminary proposals should be fully developed for evaluation. On the basis of these recommendations, the Director of the EPP/MSI program will advise proposers whether or not the submission of full proposal is recommended for consideration. Invitation to submit a full proposal does not constitute an indication that proposal will be funded. Preliminary proposals are required and must be submitted by the deadline prior to full proposal. A full proposal cannot be submitted if a preliminary proposal has not been submitted. Interested parties who submitted preliminary proposals in accordance with the procedure described in this notice may, if they wish, submit full proposals even if the Director of the EPP/MSI program does not encourage full proposal submission.

Full proposals submitted by April 17, 2003 will be reviewed by an independent peer review panel comprised of a broad representation of government, industry and academic experts. The panel members will rank proposals in accordance with the above evaluation criteria (Section IV). The panel members will provide individual evaluations on proposals, but there will be no consensus recommendation. The panel rankings and evaluations will be considered by NOAA in the final selection of proposals to be funded. NOAA may also consider programmatic or geographic balance and budget availability in the final selection of proposals, hence, awards may not necessarily be made to the highest-scored proposal.

Unsuccessful preliminary proposals and applications will be held in the program office for a period not to exceed three years. Unsuccessful applications will be notified and provided with feedback by e-mail to the Principal Investigator that may assist applicants in developing improved proposals in the future. Successful applications may be asked to modify objectives, work plans, budget levels, or project duration prior to final approval of financial assistance award. Financial Assistance awards may be a grant (e.g., whereby no substantial involvement is anticipated between NOAA and the recipient during the project performance) or cooperative agreement award that requires substantial involvement (e.g., significant collaboration, participation, or intervention by NOAA in the management of the project).

VI. Instructions for Application

Timetable

February 17, 2003—Preliminary Proposals due: Preliminary Proposals must be mailed (no attachments) to Jewel G. Linzey. Information contained should include a brief description of the scope of the work, the parties involved, and an estimated budget. Preliminary Proposals must not exceed five pages and must clearly articulate how the MSI and partners will foster student careers, entrepreneurship opportunities and advanced academic study directly related to NOAA sciences.

April 17, 2003—Full Proposals are due no later than 5 p.m. (Eastern Standard Time), April 17, 2003. (See Section VII. HOW TO SUBMIT for further details.). Facsimile transmissions and electronic mail submission of proposals will not be accepted.

May 2003—Applicants will be reviewed—Successful applicants may be asked to provide revised narratives and/or budgets.

July 1, 2003—Funds will be awarded through a grant or cooperative agreement with an expected start date July 1, 2003.

Full Proposal Guidelines

All full proposals must be typewritten on 8½ × 11 paper in 12-point font and may not exceed 20-pages. The 20 page limit includes signed title page, abstract, project description including all text and any tables and visual materials (such as charts, graphs, maps, photographs and other pictorial presentations), budget and budget justification and all standard application forms. The 20 page limitation does not include literature citation, current and pending support, curriculum vitae and letters of commitment. All information needed for review of the proposal is indicated below; no appendices are permitted.

The following information is included in the 20 page limitation:

(1) Signed title page: The title page must be signed by the Principal Investigator and the institutional representative and should clearly identify the program area being addressed by starting the project title with “NOAA EPP/MSI: Environmental Entrepreneurship Program” followed by either “Program Development and Enhancement” or “Environmental Demonstration Project,” depending upon the type of financial assistance award application that is submitted. The Principal Investigator and institutional representative should be identified by full name, title, organization, telephone number, fax number, e-mail and mailing address. The federal funding for each year of the project and total funding being requested must be listed.

(2) Abstract: It is critical that the abstract accurately describe the essential elements of the project being proposed. The abstract should include: 1. Title—Use the exact title as it appears in the application. 2. Investigators—List the names and affiliations of each investigator who will significantly contribute to the project. The Principal Investigator should be listed first followed by the Co-Principal Investigator that will assume the responsibility of carrying out the proposal in the absence of the Principal Investigator. 3. Funding request for each year of the project as well as total funding requested. 4. Project Period—Start and completion dates. Proposals should request a start date of July 1, 2003. 5. Objectives, Methodology, and Rationale—This should include a concise statement of the objectives of the project, the scientific or educational methodology to be used, and the rationale for the work proposed.

(3) Project Description

(a) Introduction/Background/Justification: How will the MSI foster student careers, entrepreneurship opportunities and advanced academic study directly related to the NOAA sciences? What is the problem or issue being addressed directly related to the NOAA sciences and what is its scientific, technical, educational, or socioeconomic importance to the region or nation?

(b) Technical Plan: What are the goals, objectives, and anticipated approach of the proposed project? While a detailed work plan is not expected, the proposal should present evidence that there has been thoughtful consideration of the approach to the problem under study. What capabilities do the partners possess that will benefit the project, faculty member and students?

(c) Output/Anticipated Benefits: What measures will be used to evaluate the outcome of the proposed project? Upon completion of the project, what are the anticipated benefits to the MSI, its students, NOAA and the environmental community?

(4) Budget and Budget Justification: Form SF424A Budget Information Non-Construction Programs and budget justification narrative are required. There should be an annual budget for each year of the project as well as a cumulative budget for the entire project. Subcontracts should include a separate budget justification page that itemizes all budget items in sufficient detail to enable reviewers to evaluate the appropriateness of the funding requested. The budget must include at least twenty-five percent [25%] directed to student support including travel to attend relevant conferences, site visits to NOAA programs, laboratories, facilities or other training experiences. The budget must include sufficient travel funds directed for the Principal Investigator to participate in the NOAA Educational Partnership Program annual meeting. (Please see the NOAA budget guidelines at http://www.rdc.noaa.gov/~grants/BUDGTGUD.PDF).

(5) Standard Application Forms: Proposals submitted in response to this solicitation must be complete and submitted in accordance with instructions in the standard NOAA Grants Application package. Applicants may obtain all required application forms through the NOAA internet site http://www.rdc.noaa.gov/~grants/pdf or from Ms. Arlene Simpson Porter, NOAA Grants Management Division, (301) 713-0926 ext. 152, Arlene.S.Porter@noaa.gov.

(a) Standard Forms 424. Application for Federal Assistance; SF424A Budget Information Non-Construction Programs; SF424B Assurances Non-Construction, (Rev 4-88). Please note that both the Principal Investigator and an administrative contact should be identified in Section 5 of the SF424 or Section 10, applicants should enter “11.481” for the CFDA Number and “NOAA Educational Partnership Program with Minority Serving Institutions” for the title. The form must contain the original signature of an authorized representative of the applying institution.

(b) Primary Applicant Certifications. All primary applicants must submit a completed Form CD-511, “Certifications Regarding Debarment, Suspension and Other Responsibility Matters; Drug-Free Workplace Requirements and Lobbying,” and the following explanations are hereby provided:

(i) Non-Procurement Debarment and Suspension. Prospective participants (as defined at 15 CFR Part 26, Section 105) are subject to 15 CFR Part 26, “Non-Procurement Debarment and Suspension” and the related section of the certification form prescribed above applies;

(ii) Drug-Free Workplace. Grantees (as defined at 15 CFR Part 26, Section 605) are subject to 15 CFR Part 26, Subpart F, “Government-wide Requirements for Drug-Free Workplace (Grants)” and the related section of the certification form prescribed above applies;

(iii) Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “Disclosure of Lobbying Activities,” as required under 15 CFR Part 28, Appendix B.

(c) Lower Tier Certifications. Recipients shall require applicants/bidders for sub grants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” ORM CD-512 is intended for the use of recipients and should not be transmitted to the Department of Commerce (DOC). SF-LLL submitted by any tier recipient or sub recipient should be submitted to DOC in accordance with the instructions contained in the award document.

The following information is not included in the 20 page limitation:

(6) Literature Citation: Literature cited should be included here.

(7) Current and Pending Support: Applicants must provide information on all their current and pending Federal support for ongoing projects and proposals, including potential subsequent funding in the case of continuing grants. The proposed project and all other projects or activities using Federal assistance or that require a portion of time of the principal investigator or other senior personnel should be included. The relationship between the proposed project and these other projects should be described, and the number of person-months per year to be devoted to the projects must be stated.

(8) Curriculum Vitae two pages maximum per all Principal and Co-Principal Investigator(s) involved in carrying out the proposal.

(9) Letters of commitment from partnering organizations. Letters of commitment from partners must be included. The letters from partnering organizations should describe the type of commitment, identify key participants, and state their role in the project.

VII. How To Submit

The eligible MSI must submit three copies of the full proposal including all standard application forms (stated in Section VI, 8). Although investigators are not required to submit more than three copies of the proposal, the normal review process utilizes 12 copies. If investigators wish all reviewers to receive color materials submitted as part of the proposal, they should submit sufficient proposal copies for the full review process.

Full Proposals must be received no later than 5 p.m. (Eastern Daylight Savings Time) on April 17, 2003 to: Jewel G. Linzey, NOAA EPP/MIS: Environmental Entrepreneurship Program, National Oceanic and Atmospheric Administration, Room 10725, SSMC3, 1315 East-West Highway, Silver Spring, MD 20910. Facsimile transmissions and electronic mail submission of proposals will not be accepted.

VIII. Other Requirements

The Department of Commerce Pre-Award Notification of Requirements for Grants and Cooperative Agreement contained in the Federal Register notice of October 1, 2001 (66 FR 49917), as amended by the Federal Register published on October 30, 2002 (66 FR 66109), is applicable to this solicitation.

For awards receiving funding for the collection or production of geospatial data (e.g., GIS data layers), the recipient will comply to the maximum extent practicable with E.O. 12906, Coordinating Geographic Data Acquisition and Access, The National Spatial Data Infrastructure, 59 FR 17671 (April 11, 1994). The award recipient shall document all new geospatial data collected or produced using the standard developed by the Federal Geographic Data Center, and make that standardized documentation electronically accessible. The standard can be found at the following Internet Web site: (http://www.fqdc.gov/standards/standards/html).

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This notice contains collections of information requirements subject to the Paperwork Reduction Act. Standard Forms 424, 424A, 424B and SF-LLL have been approved by OMB under the respective control numbers 0348-0043, 0348-0044, 0348-0040, and 0348-0046. Notwithstanding any other provision of the law, no person is required to respond to, nor shall any person be subject to a penalty for failure to comply with, a collection of information subject to the requirements of the Paperwork Reduction Act, unless that collection of information displays a currently valid OMB Control Number.

Louisa Koch,
Deputy Assistant Administrator, Office of Oceanic and Atmospheric Research, National Oceanic and Atmospheric Administration.

[FR Doc. 03-58 Filed 1-2-03; 8:45 am]

BILLING CODE 3510-KD-M